DEPARTMENT OF THE TREASURY

Departmental Offices; Proposed Collections; Comment Requests

ACTION: Notice and request for comments.

SUMMARY: The Department of the Treasury invites the general public and other Federal agencies to comment on a new information collection that is proposed for approval by the Office of Management and Budget. The Office of Program Services within the Department of the Treasury is soliciting comments concerning Treasury International Capital (TIC) Form BQ-3, Report of Maturities of Selected Liabilities of Depository Institutions, Brokers and Dealers to Foreigners.

DATES: Written comments should be received on or before June 21, 2002 to be assured of consideration.

ADDRESSES: Direct all written comments to Dwight Wolkow, International Portfolio Investment Data Systems, Department of the Treasury, Room 5457 MT, 1500 Pennsylvania Avenue NW., Washington DC 20220. In view of delays in mail delivery due to recent events, please also notify Mr. Wolkow by e-mail (dwight.wolkow@do.treas.gov), FAX (202-622-7448) or telephone (202-622-1276).

FOR FURTHER INFORMATION CONTACT: Copies of the proposed forms and instructions are available on the Treasury's TIC Forms webpage, http://www.treas.gov/tic/forms.htm. Requests for additional information should be directed to Mr. Wolkow.

SUPPLEMENTARY INFORMATION: Titles: Treasury International Capital Form BQ-3, Report of Maturities of Selected Liabilities of Depository Institutions, Brokers and Dealers to Foreigners.

OMB Control Number: NEW.

Abstract: Form BQ-3 is part of the Treasury International Capital (TIC) reporting system, which is required by law (22 U.S.C. 286f; 22 U.S.C. 3103; E.O. 10033; 31 C.F.R. 128) and is designed to collect timely information on international portfolio capital movements. Form BQ-3 is a quarterly report designed to capture, by instrument and on an aggregate basis, remaining maturities of all U.S. dollar and foreign currency liabilities (excluding securities) of U.S. resident banks, other depository institutions, brokers and dealers vis-á-vis foreign residents. This information is necessary for meeting international data reporting standards and for formulating U.S. international financial and monetary policies.

Current Actions: This proposed new form is necessary to meet recently expanded international standards for reporting data on a country's liabilities vis-á-vis foreigners. (a) The new form will collect data on remaining maturities for borrowings, deposits and brokerage balances, and repurchase agreements and other liabilities, broken down by seven maturity bands. (b) Both U.S. dollar liabilities and foreign currency liabilities, excluding securities, will be reported on the new form. (c) The reporting panel will consist of all banks, other depository institutions, brokers and dealers that report on TIC Form BL-1 and/or TIC Form BQ-2, provided that the total of their own U.S. dollar liabilities from Form BL-1 plus their own foreign currency liabilities from Part 1 of Form BQ-2 is $4 billion or more. (d) Bank Holding Companies and Financial Holding Companies (BHCs/FHCs) will each consolidate the BHC/FHC and all subsidiaries, OTHER THAN banking or broker or dealer subsidiaries, and file TIC Form CQ-1 (banks and brokers and dealers will continue to file TIC-B series reports). This treatment is designed to reduce reporting burdens since the TIC C reports are less detailed and are filed only quarterly. (e) Depository institutions, brokers and dealers will report most cross-border positions with affiliated foreigners (including affiliates of parent organizations) exclusive of positions in the form of long-term securities or derivative contracts. (f) The period of time a reporter has to submit reports once the exemption level is exceeded has been changed to the remainder of the current calendar year. (g) These changes will be effective as of February 28, 2003.

Type of Review: NEW.

Affected Public: Business or other for-profit organizations. Form BQ-3 (NEW)

Estimated Number of Respondents: 55.

Estimated Average Time per Respondent: Four (4) hours per respondent per filing.

Estimated Total Annual Burden Hours: 880 hours, based on 4 reporting periods per year.

Request for Comments: Comments submitted in response to this notice will be summarized and/or included in the requests for OMB approval. All comments will become a matter of public record. The public is invited to submit written comments concerning: whether Form BQ-3 is necessary for the proper performance of the functions of the Office, including whether the information collected has practical uses; the accuracy of the above burden estimates; ways to enhance the quality, usefulness, and clarity of the information to be collected; ways to minimize the reporting and/or recordkeeping burdens on respondents, including the use of information technologies to automate the collection of the data; and estimates of capital or start-up costs of operation, maintenance, and purchases of services to provide information.

Dwight Wolkow,
Administrator, International Portfolio Investment Data Systems.

[FR Doc. 02-9600 Filed 4-19-02; 8:45 am]

BILLING CODE 4810-25-P